NUCLEAR REGULATORY COMMISSION

Sunshine Act Meeting

AGENCY HOLDING THE MEETING: Nuclear Regulatory Commission.

DATE: Weeks of January 15, 22, 29, February 5, 12, 19, 2001.

PLACE: Commissioners' Conference Room, 11555 Rockville Pike, Rockville, Maryland.

STATUS: Public and Closed.

MATTERS TO BE CONSIDERED:

Week of January 15, 2001

Wednesday, January 17, 2001

9:25 a.m.—Affirmation Session (Public Meeting) (Tentative), a: Sequoyah Fuels Corporation (Gore, Oklahoma Site, Decommissioning) Docket No. 40-8027-MLA-4.

9:30 a.m.—Briefing on Status of Nuclear Reactor Safety (Public Meeting) (Contact: Mike Case, 301-415-1134).

This meeting will be webcast live at the Web address— www.nrc.gov/live.html

Week of January 22, 2001—Tentative

There are no meetings scheduled for the Week of January 22, 2001.

Week of January 29, 2001—Tentative

Tuesday, January 30, 2001

9:30 a.m.—Briefing on Status of Nuclear Waste Safety (Public Meeting) (Contact: Claudia Seelig, 301-415-7243).

This meeting will be webcast live at the Web address— www.nrc.gov/live.html

Wednesday, January 31, 2001

9:25 a.m.—Affirmation Session (Public Meeting) (If needed).

9:30 a.m.—Briefing on Status of OCIO Programs, Performance, and Plans (Public Meeting) (Contact: Donnie Grimsley, 301-415-8702).

This meeting will be webcast live at the Web address— www.nrc.gov/live.html

Thursday, February 1, 2001

9:30 a.m.—Briefing on Status of OCFO Programs, Performance and Plans (Public Meeting) (Contact: Lars Solander, 301-415-6080).

This meeting will be webcast live at the Web address— www.nrc.gov/live.html

Week of February 5, 2001—Tentative

Monday, February 5, 2001

1:55 p.m.—Affirmation Session (Public Meeting), (If needed).

Week of February 14, 2001—Tentative

Wednesday, February 14, 2001

9:25 a.m.—Affirmation Session (Public Meeting) (If needed).

Week of February 19, 2001—Tentative

Tuesday, February 20, 2001

9:25 a.m.—Affirmation Session (Public Meeting), (If needed).

9:30 a.m.—Briefing on Spent Fuel Pool Accident Risk at Decommissioning Plants and Rulemaking Initiatives (Public Meeting) (Contact: George Hubbard, 301-415-2870).

This meeting will be webcast live at the Web address— www.nrc.gov/live.html

* The schedule for Commission meetings is subject to change on short notice. To verify the status of meetings call (recording)—(301) 415-1292. Contact person for more information: David Louis Gamberoni (301) 415-1651.

Additional Information:

By a vote of 5-0 on January 9, and 10, the Commission determined pursuant to U.S.C. 552b(e) and § 9.107(a) of the Commission's rules that “Affirmation of Private Fuels Storage, L.L.C. (Independent Spent Fuel Storage Installation); State of Utah's Partial Interlocutory Appeal of LBP-00-28” be held on January 10, and on less than one week's notice to the public.

The NRC Commission Meeting Schedule can be found on the Internet at: http://www.nrc.gov/SECY/smj/schedule.html

This notice is distributed by mail to several hundred subscribers; if you no longer wish to receive it, or would like to be added to it, please contact the Office of the Secretary, Washington, DC 20555 (301-415-1969). In addition, distribution of this meeting notice over the Internet system is available. If you are interested in receiving this Commission meeting schedule electronically, please send an electronic message to dkw@nrc.gov.

Dated: January 11, 2001.
David Louis Gamberoni,
Technical Coordinator, Office of the Secretary.

[FR Doc. 01-1592 Filed 1-16-01; 10:53 am]

BILLING CODE 7590-01-M